NUCLEAR REGULATORY COMMISSION

[Docket Nos. 50-275 and 50-323; NRC-2020-0054]

Pacific Gas and Electric Company; Diablo Canyon Nuclear Power Station, Units 1 and 2; Cancellation of Public Meeting

AGENCY: Nuclear Regulatory Commission.

ACTION: Notice of receipt; public meeting; and request for comment.

SUMMARY: On February 21, 2020, the U.S. Nuclear Regulatory Commission (NRC) solicited comments on the Post-Shutdown Decommissioning Activities Report (PSDAR) for the Diablo Canyon Nuclear Power Plant (Diablo Canyon), Units 1 and 2. The NRC had planned to hold a public meeting to discuss the PSDAR and receive comments. The public meeting was originally scheduled to be held on March 19, 2020. The NRC has decided to reschedule the public meeting at a later date due to concerns with the Coronavirus: COVID-19.

DATES: Submit comments by June 22, 2020. Comments received after this date will be considered, if it is practical to do so, but the Commission is able to ensure consideration only for comments received on or before this date.

ADDRESSES: You may submit comments by any of the following methods:

• Federal Rulemaking Website: Go to https://www.regulations.gov and search for Docket ID NRC-2020-0054. Address questions about NRC dockets IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Balwant K. Singal, Office of Nuclear Reactor Regulation, U.S. Nuclear Regulatory Commission, Washington, DC 20555-0001, telephone: 301-415-3016; email: Balwant.Singal@nrc.gov.

SUPPLEMENTARY INFORMATION:

I. Obtaining Information and Submitting Comments

A. Obtaining Information

Please refer to Docket ID NRC-2020-0054 when contacting the NRC about the availability of information for this action. You may obtain publicly-available information related to this action by any of the following methods:

• Federal Rulemaking Website: Go to https://www.regulations.gov and search for Docket ID NRC-2020-0054.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The Diablo Canyon, Units 1 and 2, PSDAR is available in ADAMS under Accession No. ML19338F173.

• NRC's PDR: You may examine and purchase copies of public documents at the NRC's PDR, Room O1-F21, One White Flint North, 11555 Rockville Pike, Rockville, Maryland 20852.

B. Submitting Comments

Please include Docket ID NRC-2020-0054 in your comment submission.

The NRC cautions you not to include identifying or contact information that you do not want to be publicly disclosed in your comment submission. The NRC will post all comment submissions at https://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On February 21, 2020 (85 FR 10200), the NRC solicited comments on the PSDAR for Diablo Canyon, Units 1 and 2. The PSDAR includes a description of the planned decommissioning activities, a proposed schedule for their accomplishment, cost summary from the Decommissioning Cost Estimate, and a discussion that provides the basis for concluding that the environmental impacts associated with the site-specific decommissioning activities will be bounded by appropriate, previously issued generic and plant-specific environmental impact statements.

The NRC is requesting public comments on the PSDAR for Diablo Canyon, Units 1 and 2. The NRC had planned to conduct a public meeting to discuss the PSDAR and receive comments on Thursday, March 19, 2020, from 6:00 p.m. until 8:00 p.m., at the Board of Supervisors Chambers, County Government Center, 1055 Monterey Street, San Luis Obispo, California 93408. However, the NRC has decided to reschedule the meeting to a later date due to concerns with the Coronavirus: COVID-19. The comment period due date remains the same. The NRC requests that comments be submitted as noted in the ADDRESSES section of this document in writing by June 22, 2020.

Dated at Rockville, Maryland, this 12th day of March 2020.
For the Nuclear Regulatory Commission.
Jennifer L. Dixon-Herrity,
Chief, Plant Licensing Branch IV, Division of Operating Reactor Licensing, Office of Nuclear Reactor Regulation.

[FR Doc. 2020-05564 Filed 3-17-20; 8:45 am]

BILLING CODE 7590-01-P